DEPARTMENT OF STATE

[Public Notice 5863]

U.S. Advisory Commission on Public Diplomacy; Notice of Meeting

The U.S. Advisory Commission on Public Diplomacy will hold a public meeting on July 27, 2007, at the Meridian International Center at 1630 Crescent Place, NW., Washington, DC 20009. The meeting will be held from 9 to 11 a.m. The Commissioners will discuss public diplomacy issues, including those related to Foreign Service personnel recruitment and career development and advancement.

The Advisory Commission was originally established under Section 604 of the United States Information and Exchange Act of 1948, as amended (22 U.S.C. 1469) and Section 8 of Reorganization Plan Numbered 2 of 1977. It was reauthorized pursuant to Public Law 110-21 (2007). The Commission is a bipartisan panel created by Congress in 1948 to assess public diplomacy policies and programs of the U.S. government and publicly funded nongovernmental organizations. The Commission reports its findings and recommendations to the President, the Congress and the Secretary of State and the American people. Current Commission members include Barbara M. Barrett of Arizona, who is the Chairman; Harold Pachios of Maine; Ambassador Penne Percy Korth of Washington, DC.; Ambassador Elizabeth Bagley of Washington, DC.; Jay T. Snyder of New York; and Maria Sophia Aguirre of Washington, DC.

To attend the meeting and for more information, please contact Carl Chan at (202) 203-7883.

Dated: June 28, 2007.
Carl Chan,
Interim Executive Director, ACPD Department of State.

[FR Doc. E7-13213 Filed 7-6-07; 8:45 am]

BILLING CODE 4710-11-P